DEPARTMENT OF HOUSING AND URBAN DEVELOPMENT

[Docket No. FR-5328-N-04]

Final Fair Market Rents for the Housing Choice Voucher Program and Moderate Rehabilitation Single Room Occupancy Program for Fiscal Year 2010; Revised Correction

AGENCY: Office of the Secretary, HUD.

ACTION: Notice of Final Fair Market Rents (FMRs) for Fiscal Year 2010, Update Correction.

SUMMARY: Today's Federal Register notice corrects a notice published on Thursday, March 11, 2010, that updated the FMRs for Reno-Sparks, NV, and Ward County, ND. The March 11, 2010, notice inadvertently listed the 0 bedroom rent for Ward County, ND, as $425. In fact, the FMR for 0 bedroom rent for Ward County, ND, is $413.

DATES: Effective Date: March 15, 2010.

FOR FURTHER INFORMATION CONTACT: Marie L. Lihn or Lynn A. Rodgers, Economic and Market Analysis Division, Office of Economic Affairs, Office of Policy Development and Research, telephone (202) 708-0590. Persons with hearing or speech impairments may access this number through TTY by calling the toll-free Federal Information Relay Service at (800) 877-8339. (Other than the HUD USER information line and TTY numbers, telephone numbers are not toll-free.)

SUPPLEMENTARY INFORMATION:

On March 11, 2010, HUD published a notice in the Federal Register that updated the FMRs for Reno-Sparks, NV, and Ward County, ND. As discussed in that notice, the update was based on Random Digit Dialing (RDD) surveys conducted by HUD from October, 2009, through November, 2009. The March 11, 2010, notice inadvertently listed the 0 bedroom rent for Ward County, ND. Today's notice corrects the 0 bedroom rent for Ward County, ND. The 0 bedroom rent is $413, and not $425 as listed in HUD's previous publication. For ease of reference, HUD is publishing the corrected FMRs for Ward County, ND.

The FMRs for the Ward County, ND is corrected as follows:

2010 Fair market rent area | FMR by number of bedrooms in unit: 0 BR | FMR by number of bedrooms in unit: 1 BR | FMR by number of bedrooms in unit: 2 BR | FMR by number of bedrooms in unit: 3 BR | FMR by number of bedrooms in unit: 4 BR
Ward County, ND | $413 | $512 | $631 | $872 | $1,035

Dated: March 9, 2010.
Edward J. Szymanoski,
Associate Deputy Assistant Secretary for Economic Affairs.

[FR Doc. 2010-5593 Filed 3-12-10; 8:45 am]

BILLING CODE 4210-67-P